DEPARTMENT OF LABOR

Office of the Secretary

Labor Research Advisory Council; Reestablishment

In accordance with the provisions of the Federal Advisory Committee Act, and after consultation with General Services Administration, I have determined that reestablishment of the Labor Research Advisory Council is in the public interest in connection with the performance of duties imposed on the Department of Labor.

The Council will advise the Commissioner of Labor Statistics regarding the statistical and analytical work of the Bureau of Labor Statistics, providing perspectives on these programs in relation to the needs of the labor unions and their members.

Council membership and participation in the Council and its subcommittees are broadly representative of union organizations of all sizes of membership, with national coverage that reflects the geographical, industrial, and occupational sectors of the economy.

The Council will function solely as an advisory body and in compliance with the provisions of the Federal Advisory Committee Act. The Charter will be filed with the Library of Congress and the appropriate congressional committees.

Interested persons are invited to submit comments regarding reestablishment of the Labor Research Advisory Council. Such comments should be addressed to: Deborah P. Klein, Associate Commissioner, Office of Publications and Special Studies, Bureau of Labor Statistics, Department of Labor, Postal Square Building, 2 Massachusetts Avenue, NE., Washington, DC, 20212, telephone: 202-691-5900.

Signed in Washington, DC this 23rd day of May, 2003.
Elaine L. Chao,
Secretary of Labor.

[FR Doc. 03-13800 Filed 6-2-03; 8:45 am]

BILLING CODE 4510-24-P